SECURITIES AND EXCHANGE COMMISSION

[Release No. 34-81890; File No. SR-NYSEArca-2017-120]

Self-Regulatory Organizations; NYSE Arca, Inc.; Notice of Filing and Immediate Effectiveness of Proposed Rule Change Relating to Changes to Certain Representations Relating to Five PIMCO Exchange-Traded Funds Currently Listed Under NYSE Arca Rule 8.600-E

October 17, 2017.

Pursuant to Section 19(b)(1) ¹ of the Securities Exchange Act of 1934 (“Act”) ² and Rule 19b-4 thereunder,³ notice is hereby given that, on October 5, 2017, NYSE Arca, Inc. (the “Exchange” or “NYSE Arca”) filed with the Securities and Exchange Commission (“Commission”) the proposed rule change as described in Items I and II below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes to reflect changes to certain representations made in the respective proposed rule changes previously filed with the Commission pursuant to Rule 19b-4 relating to the PIMCO Active Bond Exchange-Traded Fund, PIMCO Enhanced Low Duration Active Exchange-Traded Fund, PIMCO Short Term Municipal Bond Active Exchange-Traded Fund, PIMCO Intermediate Municipal Bond Active Exchange-Traded Fund, and PIMCO Enhanced Short Maturity Active Exchange-Traded Fund (each a “Fund” and, collectively, the “Funds”). Shares of the Funds are currently listed and traded on the Exchange under NYSE Arca Rule 8.600-E. The proposed rule change is available on the Exchange's Web site at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Commission has approved the listing and trading on the Exchange of shares (“Shares”) of the Funds, under NYSE Arca Rule 8.600-E (formerly NYSE Arca Equities Rule 8.600), which governs the listing and trading of Managed Fund Shares.⁴ The Shares are offered by PIMCO ETF Trust (the “Trust”), a statutory trust organized under the laws of the State of Delaware and registered with the Commission as an open-end management investment company.⁵ The investment manager to the Funds is Pacific Investment Management Company LLC (“PIMCO” or the “Adviser”). The Funds' Shares are currently listed and traded on the Exchange under NYSE Arca Rule 8.600-E.

⁴ A Managed Fund Share is a security that represents an interest in an investment company registered under the Investment Company Act of 1940 (15 U.S.C. 80a-1) (“1940 Act”) organized as an open-end investment company or similar entity that invests in a portfolio of securities selected by its investment adviser consistent with its investment objectives and policies. In contrast, an open-end investment company that issues Investment Company Units, listed and traded on the Exchange under NYSE Arca Rule 5.2-E(j)(3), seeks to provide investment results that correspond generally to the price and yield performance of a specific foreign or domestic stock index, fixed income securities index or combination thereof.

⁵ The Trust is registered under the 1940 Act. On October 28, 2016 the Trust filed with the Commission the most recent post-effective amendment to its registration statement under the Securities Act of 1933 (15 U.S.C. 77a) (“1933 Act”) and under the 1940 Act relating to the Funds (File Nos. 333-155395 and 811-22250) (the “Registration Statement”). The description of the operation of the Trust and the Funds herein is based, in part, on the Registration Statement. In addition, the Commission has issued an order granting certain exemptive relief to the Trust under the 1940 Act. See Investment Company Act Release No. 28993 (November 10, 2009) (File No. 812-13571) (“Exemptive Order”).

In this proposed rule change, the Exchange proposes to reflect changes to certain representations made in the respective proposed rule changes previously filed with the Commission pursuant to Rule 19b-4(e) relating to the Funds, as described below.⁶

⁶ The Adviser represents that it will manage the Funds in the manner described in the applicable proposed rule changes for the Funds referenced below, and will not implement the changes described herein until the proposed rule change is operative.

PIMCO Active Bond Exchange-Traded Fund ⁷

⁷ See Securities Exchange Act Release Nos. 65988 (December 16, 2011), 76 FR 79741 (December 22, 2011) (SR-NYSEArca-2011-95) (notice of filing of proposed rule change relating to Exchange listing and trading of shares of the PIMCO Total Return Exchange Traded Fund (now the PIMCO Active Bond Exchange Traded Fund)) (“First Prior Bond Notice”); 66321 (February 3, 2012), 77 FR 6850 (February 9, 2012) (SR-NYSEArca-2011-95) (order approving listing and trading of Shares of the Fund on the Exchange). See also Securities Exchange Act Release Nos. 70905 (November 20, 2013), 78 FR 70610 (November 26, 2013) (SR-NYSEArca-2013-122) (notice of filing of proposed rule change relating to use of derivative instruments by the Fund); 72666 (July 24, 2014), 79 FR 44224 (July 30, 2014) (SR-NYSEArca-2013-122) (order approving proposed rule change relating to use of derivative instruments by the Fund; 73331 (October 9, 2014), 79 FR 62213 (October 16, 2014) (SR-NYSEArca-2014-104) (notice of filing and immediate effectiveness of proposed rule change relating to use of derivatives by certain PIMCO exchange traded funds); 75475 (July 16, 2015), 80 FR 43507 (July 22, 2015) (SR-NYSEArca-2015-63) (notice of filing and immediate effectiveness of proposed rule change relating to a change in the size of a Creation Unit applicable to Shares of the Fund); 80534 (April 26, 2017), 82 FR 20525 (May 2, 2017) (SR-NYSEArca-2017-41) (notice of filing and immediate effectiveness of proposed rule change to reflect changes in the name of, the investment objective for, and the means of achieving the investment objective applicable to the PIMCO Total Return Active Exchange-Traded Fund) (“2017 Bond Release” and, together with the other releases referenced in this footnote, the “Prior Bond Releases”).

The 2017 Bond Release stated that the Fund will primarily (under normal market circumstances, at least 65% of its total assets) invest in a diversified portfolio of Fixed Income Instruments of varying maturities, which may be represented by derivatives related to Fixed Income Instruments, but may invest up to 30% of its total assets in high yield Fixed Income Instruments (which may be represented by derivatives related to Fixed Income Instruments) rated B3 through Ba1 by Moody's, or equivalently rated by S&P or Fitch, or, if unrated, determined by PIMCO to be of comparable credit quality. The Adviser proposes to revise this representation to state that the Fund will primarily (under normal market circumstances, at least 65% of its total assets) invest in a diversified portfolio of Fixed Income Instruments of varying maturities, which may be represented by derivatives related to Fixed Income Instruments, and may invest in high yield Fixed Income Instruments (which may be represented by derivatives related to Fixed Income Instruments) of any credit quality.⁸

⁸ The Exchange notes that the Commission previously has approved the listing and trading of issues of Managed Fund Shares where there is not a specified limit to a fund's holdings that may be in high yield bonds or a specified credit quality. See, e.g., Securities Exchange Act Release Nos. 75540 (July 28, 2015), 80 FR 46359 (August 4, 2015) (SR-NYSEArca-2015-50) (order approving listing and trading on the Exchange of shares of the Cambria Sovereign High Yield Bond ETF and Cambria Value and Momentum ETF under NYSE Arca Equities Rule 8.600); 77904 (May 25, 2016), 81 FR 35101 (June 1, 2016) (SR-NYSEArca-2016-17) (order approving proposed rule change to list and trade shares of the JPMorgan Diversified Alternative ETF under NYSE Arca Equities Rule 8.600).

The 2017 Bond Release stated that the average portfolio duration of PIMCO Active Bond Exchange-Traded Fund normally will vary from zero to eight years based on PIMCO's market forecasts. The Adviser proposes to revise this representation to state that the average portfolio duration of this Fund normally will vary from zero to nine years based on PIMCO's market forecasts.⁹

⁹ The Exchange notes that the Commission has approved the listing and trading of other issues of Managed Fund Shares that have a duration range comparable to those proposed for the Fund. See, e.g., Securities Exchange Act Release Nos. 79293 (November 10, 2016), 81 FR 81189 (November 17, 2016) (SR-NYSEArca-2016-107) (order approving listing and trading of shares of Cumberland Municipal Bond ETF under NYSE Arca Equities Rule 8.600, which states that “At least 80% of the weight of the Fund's assets will be in Municipal Bonds with a modified duration of 15 years or less”); 71617 (February 26, 2014), 79 FR 12257 (March 4, 2014) (SR-NYSEArca-2013-135) (Order Granting Approval of Proposed Rule Change to List and Trade Shares of db-X Ultra-Short Duration Fund and db-X Managed Municipal Bond Fund under NYSE Arca Equities Rule 8.600, which states that “[a]lthough the [db-X Managed Municipal Bond Fund] may adjust duration of its holdings over a wider range, it generally intends to keep it between five and nine years”); 77522 (April 5, 2016), 81 FR 21420 (April 11, 2016) (SR-NYSEArca-2015-125) (order approving proposed rule change to list and trade shares of the Riverfront Dynamic Unconstrained Income ETF and Riverfront Dynamic Core Income ETF under NYSE Arca Equities Rule 8.600, which states that “the Sub-Adviser intends to manage the [Riverfront Dynamic Unconstrained Income ETF's] portfolio so that it has an average duration of between two and ten years, under normal circumstances”).

The First Prior Bond Notice stated that the Fund may invest up to 15% of its total assets in securities and instruments that are economically tied to emerging market countries.¹⁰ The Adviser proposes to revise this representation to state that the Fund may invest in securities and instruments that are economically tied to emerging market countries. Thus, going forward, there would not be a specified limit in the Fund's investments in emerging markets securities.¹¹

¹⁰ The First Prior Bond Notice stated that “[w]hile corporate debt securities and debt securities economically tied to an emerging market country generally must have $200 million or more par amount outstanding and significant par value traded to be considered as an eligible investment for the Fund, at least 80% of issues of such securities held by the Fund must have $200 million or more par amount outstanding.” This condition will continue to apply.

¹¹ The Exchange notes that the Commission has approved the listing and trading of other issues of Managed Fund Shares for which there was not a specified limit in investments in foreign fixed income securities, which would include emerging markets securities. See, e.g., Securities Exchange Act Release Nos. 79683 (December 23, 2016) 81 FR 96539 (December 30, 2016) (SR-NYSEArca-2016-82) (order approving proposed rule change to list and trade shares of the JPMorgan Diversified Event Driven ETF under NYSE Arca Equities Rule 8.600); 80657 (May 11, 2017) (SR-NYSEArca-2017-09) (order approving proposed rule change to list and trade shares of the Janus Short Duration Fund under NYSE Arca Equities Rule 8.600).

The Adviser represents that the proposed changes to the Fund's investments referenced above are consistent with the Fund's investment objective, and will further assist the Adviser to achieve such investment objective.

PIMCO Enhanced Low Duration Active Exchange-Traded Fund ¹²

¹² See Securities Exchange Act Release Nos. 70774 (October 30, 2013), 78 FR 66396 (November 5, 2013) (SR-NYSEArca-2013-106) (notice of filing of proposal relating to PIMCO Diversified Income Exchange-Traded Fund, PIMCO Low Duration Exchange-Traded Fund and PIMCO Real Return Exchange-Traded Fund) (“Prior Low Duration Notice”); 71125 (December 18, 2013), 78 FR 77743 (December 24, 2013) (SR-NYSEArca-2013-106) (order approving listing and trading of PIMCO Diversified Income Exchange-Traded Fund, PIMCO Low Duration Exchange-Traded Fund and PIMCO Real Return Exchange-Traded Fund); 73331 (October 9, 2014), 79 FR 62213 (October 16, 2014) (SR-NYSEArca-2014-104) (Notice of Filing and Immediate Effectiveness of Proposed Rule Change Relating to Use of Derivative Instruments by Certain PIMCO Exchange-Traded Funds) (collectively, “Prior Bond Low Duration Releases”).

The Prior Low Duration Notice stated that the Fund will invest primarily in investment grade debt securities, but may invest up to 10% of its total assets in high yield debt securities rated B to Ba by Moody's, or equivalently rated by S&P or Fitch, or, if unrated, determined by PIMCO to be of comparable credit quality. The Adviser proposes to revise this representation to state that the Fund will invest primarily in investment grade debt securities, and may invest in high yield debt securities of any credit quality.¹³

¹³ See note 8, supra.

The Prior Low Duration Notice stated that the average portfolio duration of the Fund normally will vary from one to three years based on PIMCO's forecast for interest rates. The Adviser proposes to revise this representation to state that the average portfolio duration of the Fund normally will vary from zero to four years based on PIMCO's forecast for interest rates.¹⁴

¹⁴ See note 9, supra.

The Prior Low Duration Notice stated that the Fund may invest up to 10% of its total assets in securities and instruments that are economically tied to emerging market countries, subject to the Fund's investment limitations relating to particular asset classes.¹⁵ The Adviser proposes to revise this representation to state that the Fund may invest in securities and instruments that are economically tied to emerging market countries, subject to the Fund's investment limitations relating to particular asset classes. Thus, going forward, there would not be a specified limit in investments in the Fund's investments in emerging markets securities.¹⁶

¹⁵ The Prior Low Duration Notice stated that “[w]hile emerging markets corporate debt securities (excluding commercial paper) generally must have $200 million or more par amount outstanding and significant par value traded to be considered as an eligible investment for the Fund, at least 80% of issues of such securities held by the Fund must have $200 million or more par amount outstanding at the time of investment. This condition will continue to apply.

¹⁶ See note 11, supra.

The Adviser represents that the proposed changes to the Fund's investments referenced above are consistent with the Fund's investment objective, and will further assist the Adviser to achieve such investment objective.

PIMCO Short Term Municipal Bond Active Exchange-Traded Fund ¹⁷

¹⁷ Securities Exchange Act Release No. 60619, (September 3, 2009), 74 FR 46820 (September 11, 2009) (SR-NYSEArca-2009-79) (notice of filing of proposal relating to PIMCO Intermediate Municipal Bond Strategy Exchange-Traded Fund and PIMCO Short-Term Municipal Bond Strategy Exchange-Traded Fund) (“Prior Short Term Notice”); 60981 (November 10, 2009) 74 FR 59594 (November 18, 2009) (SR-NYSEArca-2009-79) (order approving proposed rule change relating to listing of five fixed income funds of the PIMCO ETF Trust) (“Prior Short Term Order”); 73331 (October 9, 2014), 79 FR 62213 (October 16, 2014) (SR-NYSEArca-2014-104) (Notice of Filing and Immediate Effectiveness of Proposed Rule Change Relating to Use of Derivative Instruments by Certain PIMCO Exchange-Traded Funds) (collectively, “Prior Short Term Releases”).

The Prior Short Term Municipal Bond Notice [sic] stated that the Fund may only invest in U.S. dollar-denominated investment grade debt securities. The Adviser proposes to revise this representation to state that the Fund may only invest in U.S. dollar-denominated debt securities, which may be of any credit quality.¹⁸

¹⁸ See note 8, supra.

The Prior Short Term Municipal Bond Notice [sic] stated that the average portfolio duration of this Fund varies based on PIMCO's forecast for interest rates and under normal market conditions is not expected to exceed three years. The Adviser proposes to revise this representation to state that the average portfolio duration of this Fund varies based on PIMCO's forecast for interest rates and under normal market conditions is not expected to exceed four years.¹⁹

¹⁹ See note 9, supra.

The Prior Short Term Municipal Bond Notice [sic] stated that the dollar-weighted average portfolio maturity of the Fund is normally not expected to exceed three years. The Adviser proposes to revise this representation to state that the Fund will not have any portfolio maturity limitation and may invest its assets in instruments with short-term, medium-term, or long-term maturities.²⁰

²⁰ The Exchange notes that the Commission previously has approved listing and trading of issues of Managed Fund Shares for which there was no limitation on portfolio maturity for debt instruments. See, e.g., Securities Exchange Act Release Nos. 76126 (October 9, 2015) (SR-Nasdaq-2015-095) (Order Granting Approval of Proposed Rule Change Relating to the Listing and Trading of the Shares of the AltShares Long/Short High Yield Fund of ETFis Series Trust I); 68972 (February 22, 2013) (SR-Nasdaq-2012-147) (Order Granting Approval of Proposed Rule Change Relating to the Listing and Trading of the Shares of the First Trust High Yield Long/Short ETF of First Trust Exchange-Traded Fund IV).

The Adviser represents that the proposed changes to the Fund's investments referenced above are consistent with the Fund's investment objective, and will further assist the Adviser to achieve such investment objective.

PIMCO Intermediate Municipal Bond Active Exchange-Traded Fund ²¹

²¹ Securities Exchange Act Release No. 60619, (September 3, 2009), 74 FR 46820 (September 11, 2009) (SR-NYSEArca-2009-79) (notice of filing of proposal relating to PIMCO Intermediate Municipal Bond Strategy Exchange-Traded Fund and PIMCO Short-Term Municipal Bond Strategy Exchange-Traded Fund) (“First Prior Intermediate Municipal Bond Notice”); 60981 (November 10, 2009) 74 FR 59594 (November 18, 2009) (SR-NYSEArca-2009-79) (order approving proposed rule change relating to listing of five fixed income funds of the PIMCO ETF Trust); 75978 (September 24, 2015) (SR-NYSEArca-2015-79) (Notice of Filing and Immediate Effectiveness of Proposed Rule Change Regarding the PIMCO Intermediate Municipal Bond Active Exchange-Traded Fund) (“Second Prior Intermediate Municipal Bond Notice”); 73331 (October 9, 2014) (SR-NYSEArca-2014-104) (Notice of Filing and Immediate Effectiveness of Proposed Rule Change Relating to Use of Derivative Instruments by Certain PIMCO Exchange-Traded Funds) (collectively, “Prior Intermediate Municipal Bond Releases”).

The First Prior Intermediate Municipal Bond Notice stated that the Fund may only invest in U.S. dollar-denominated investment grade debt securities. The Adviser proposes to revise this representation to state the Fund may only invest in U.S. dollar-denominated debt securities, which may be of any credit quality.²²

²² See note 8, supra.

The Second Prior Intermediate Municipal Bond Notice stated that the average portfolio duration of the Fund normally would vary within (negative) 2 years to positive 4 years of the portfolio duration of the securities comprising the Barclays 1-15 Year Municipal Bond Index, as calculated by PIMCO (the “Index”). The Adviser proposes to revise this representation to state the average portfolio duration of the Fund normally would vary within (negative) 3 years to positive 5 years of the portfolio duration of the securities comprising the Index.²³ As of August 31, 2017, the average portfolio duration of the Index was 4.91 years. Thus, as of August 31, 2017, the average portfolio duration of the Fund normally would vary within approximately 1.9 years and 9.9 years if the proposed revised representation were operative on that date.

²³ See note 9, supra.

The Adviser represents that the proposed changes to the Fund's investments referenced above are consistent with the Fund's investment objective, and will further assist the Adviser to achieve such investment objective.

PIMCO Enhanced Short Maturity Active Exchange-Traded Fund ²⁴

²⁴ Securities Exchange Act Release No. 60619 (September 3, 2009), 74 FR 46820 (September 11, 2009) (SR-NYSEArca-2009-79) (notice of filing of proposed rule change relating to listing of five fixed income funds of the PIMCO ETF Trust, including the PIMCO Enhanced Short Maturity Strategy Fund) (“Prior Short Maturity Notice”); 60981 (November 10, 2009), 74 FR 59594 (November 18, 2009) (SR-NYSEArca-2009-79) (order approving proposed rule change relating to listing of five fixed income funds of the PIMCO ETF Trust) (collectively, “Prior Short Maturity Releases”).

The Prior Short Maturity Notice stated that the Fund primarily invests in U.S. dollar-denominated investment grade debt securities, rated Baa or higher by Moody's, or equivalently rated by S&P or Fitch, or, if unrated, determined by PIMCO to be of comparable credit quality. The Adviser proposes to revise this representation to state the Fund primarily will invest in U.S. dollar-denominated debt securities, which may be of any credit quality.²⁵

²⁵ See note 8, supra.

The Prior Short Maturity Notice stated that the average portfolio duration of this Fund will vary based on PIMCO's forecast for interest rates and will normally not exceed one year. The Adviser proposes to revise this representation to state the average portfolio duration of this Fund will vary based on PIMCO's forecast for interest rates and will normally not exceed one and one half years.²⁶

²⁶ See note 9, supra.

The Prior Short Maturity Notice stated that the dollar-weighted average portfolio maturity of the Fund is normally not expected to exceed three years. The Adviser proposes to revise this representation to state the Fund will not have any portfolio maturity limitation and may invest its assets in instruments with short-term, medium-term, or long-term maturities.²⁷

²⁷ See note 20, supra.

The Prior Short Maturity Notice stated that the Fund may invest up to 5% of its total assets in U.S. dollar-denominated fixed-income securities and instruments that are economically tied to emerging market countries. The Adviser proposes to revise this representation to state the Fund may invest up to 10% of its total assets in U.S. dollar-denominated fixed-income securities and instruments that are economically tied to emerging market countries.²⁸

²⁸ See note 11, supra.

The Adviser represents that the proposed changes to the Fund's investments referenced above are consistent with the Fund's investment objective, and will further assist the Adviser to achieve such investment objective.

Except for the changes noted above, all other representations made in the Prior Bond Releases, the Prior Bond Low Duration Releases, the Prior Short Term Releases, the Prior Intermediate Municipal Bond Releases, and the Prior Short Maturity Releases, respectively, remain unchanged.

All terms referenced but not defined herein are defined in the Prior Bond Releases, the Prior Low Duration Releases [sic], the Prior Short Term Releases, the Prior Intermediate Municipal Bond Releases, and the Prior Short Maturity Releases, respectively.

2. Statutory Basis

The basis under the Act for this proposed rule change is the requirement under Section 6(b)(5) ²⁹ that an exchange have rules that are designed to prevent fraudulent and manipulative acts and practices, to promote just and equitable principles of trade, to remove impediments to, and perfect the mechanism of a free and open market and, in general, to protect investors and the public interest.

²⁹ 15 U.S.C. 78f(b)(5).

The Exchange believes that the proposed rule change is designed to prevent fraudulent and manipulative acts and practices, and is designed to promote just and equitable principles of trade and to protect investors and the public interest.

With respect to changes in the representations regarding investments in investment grade and high yield debt securities for each of the Funds' portfolios, such changes will provide each Fund with additional flexibility in selecting fixed income securities investments in view of changing market conditions and consistent with a Fund's investment objectives. The Exchange believes that the changes to representations regarding investments in investment grade or high yield fixed income securities in the applicable Funds' portfolios are consistent with prior Commission approvals of proposed rule changes for other issues of Managed Fund Shares and will not adversely impact investors or Exchange trading.³⁰

³⁰ See note 8, supra.

With respect to the proposed changes to the representations regarding the average portfolio duration regarding the portfolios of each of the Funds, and the change to the representation regarding the dollar-weighted average portfolio maturity regarding the portfolio of the PIMCO Enhanced Short Maturity Active Exchange-Traded Fund and the PIMCO Short Term Municipal Bond Active Exchange-Traded Fund, the Exchange believes such changes will not adversely impact investors or Exchange trading and will provide such Funds with additional flexibility in managing the Funds' investments based on the Adviser's assessment of market conditions impacting the Funds' investments. Further, a more flexible bandwidth for the average portfolio duration and dollar-weighted average portfolio maturity will allow the Funds to respond more effectively to changing market conditions. The Exchange believes that the change to the average portfolio duration and dollar-weighted average portfolio maturity of the applicable Funds' portfolios are consistent with prior Commission approvals of proposed rule changes for other issues of Managed Fund Shares and will not adversely impact investors or Exchange trading.³¹

³¹ See notes 9 and 20, supra.

With respect to proposed changes in the representations regarding investments in securities and instruments that are economically tied to emerging market countries for the PIMCO Active Bond Exchange-Traded Fund, PIMCO Enhanced Short Maturity Active Exchange-Traded Fund and PIMCO Enhanced Low Duration Active Exchange-Traded Fund, such changes will provide each Fund with additional flexibility in selecting fixed income securities investments of emerging market issuers, which may be appropriate in view of changing market conditions and consistent with a Fund's investment objectives. The Exchange believes that the changes to such representations are consistent with prior Commission approvals of proposed rule changes for other issues of Managed Fund Shares and will not adversely impact investors or Exchange trading.³²

³² See note 11, supra.

B. Self-Regulatory Organization's Statement on Burden on Competition

The Exchange does not believe that the proposed rule change will impose any burden on competition that is not necessary or appropriate in furtherance of the purposes of the Act. The Exchange believes the proposed rule change will enhance competition among issues of exchange-traded funds that invest in fixed income securities to the benefit of investors and the marketplace.

C. Self-Regulatory Organization's Statement on Comments on the Proposed Rule Change Received From Members, Participants, or Others

No written comments were solicited or received with respect to the proposed rule change.

III. Date of Effectiveness of the Proposed Rule Change and Timing for Commission Action

Because the proposed rule change does not: (i) Significantly affect the protection of investors or the public interest; (ii) impose any significant burden on competition; and (iii) become operative for 30 days from the date on which it was filed, or such shorter time as the Commission may designate, it has become effective pursuant to Section 19(b)(3)(A) of the Act ³³ and Rule 19b-4(f)(6) thereunder.³⁴

³³ 15 U.S.C. 78s(b)(3)(A).

³⁴ 17 CFR 240.19b-4(f)(6). In addition, Rule 19b-4(f)(6)(iii) requires a self-regulatory organization to give the Commission written notice of its intent to file the proposed rule change, along with a brief description and the text of the proposed rule change, at least five business days prior to the date of filing of the proposed rule change, or such shorter time as designated by the Commission. The Exchange has satisfied this requirement.

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule change should be approved or disapproved.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-NYSEArca-2017-120 on the subject line.

Paper Comments

• Send paper comments in triplicate to Secretary, Securities and Exchange Commission, 100 F Street NE., Washington, DC 20549-1090.

All submissions should refer to File Number SR-NYSEArca-2017-120. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of the filing also will be available for inspection and copying at the principal office of the Exchange. All comments received will be posted without change; the Commission does not edit personal identifying information from submissions. You should submit only information that you wish to make available publicly. All submissions should refer to File Number SR-NYSEArca-2017-120 and should be submitted on or before November 13, 2017.

³⁵ 17 CFR 200.30-3(a)(12).

For the Commission, by the Division of Trading and Markets, pursuant to delegated authority.³⁵
Eduardo A. Aleman,
Assistant Secretary.

[FR Doc. 2017-22885 Filed 10-20-17; 8:45 am]

BILLING CODE 8011-01-P